ENVIRONMENTAL PROTECTION AGENCY

[FRL-6926-6]

Agency Information Collection Activities: Submission for OMB Review; Comment Request; Marine Engine Manufacturer Production Line Testing Reporting and Recordkeeping Requirements

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: Marine Engine Manufacturer Production Line Testing Reporting and Recordkeeping Requirements, OMB Control No. 2060-0323, expiration date December 31, 2000. The ICR describes the nature of the information collection and its expected burden and cost; where appropriate, it includes the actual data collection instrument.

DATES: Comments must be submitted on or before January 29, 2001.

ADDRESSES: Send comments, referencing EPA ICR No.1725.03 and OMB Control No. 2060-0323, to the following addresses: Sandy Farmer, U.S. Environmental Protection Agency, Collection Strategies Division (Mail Code 2822), 1200 Pennsylvania Avenue, NW., Washington, DC 20460; and to Office of Information and Regulatory Affairs, Office of Management and Budget (OMB), Attention: Desk Officer for EPA, 725 17th Street, NW., Washington, DC 20503.

FOR FURTHER INFORMATION CONTACT: For a copy of the ICR contact Sandy Farmer at EPA by phone at (202) 260-2740, by E-mail at Farmer.sandy@epamail.epa.gov, or download off the Internet at http://www.epa.gov/icr and refer to EPA ICR No. 1725.03. For technical questions about the ICR contact Dennis Johnson, Engine Programs Group, Certification and Compliance Division, Office of Transportation and Air Quality at 202-564-9278 or by e-mail at johnson.dennis@epa.gov.

SUPPLEMENTARY INFORMATION: Title:Marine Engine Manufacturer Production Line Testing Reporting and Recordkeeping Requirements (OMB Control No. 2060-0323; EPA ICR No. 1725.03), expiring December 31, 2000. This is a request for extension of a currently approved collection.

Abstract: The Production Line Testing Program (PLT) is a self-audit program, promulgated under the authority of section 213(d) of the CAA, in which marine engine manufacturers test engines as they leave the assembly line. Its objective is for EPA and the manufacturers to determine with statistical certainty whether new engines in fact comply with emission standards. By detecting problems while engines are still in production, noncomformities are detected and corrected before engines are introduced into commerce or soon after production when engines are most easily located. EPA uses the data obtained through the PLT to determine compliance with emission regulations and whether a Selective Enforcement Audit is needed. An agency may not conduct or sponsor, and a person is not required to respond to, a collection of information unless it displays a currently valid OMB control number. The OMB control numbers for EPA's regulations are listed in 40 CFR part 9 and 48 CFR Chapter 15. The Federal Register document required under 5 CFR 1320.8(d), soliciting comments on this collection of information was published on August 31, 2000 (65 FR 53005); no comments were received.

Burden Statement: The annual public reporting and recordkeeping burden for this collection of information is estimated to average 57 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Marine engine manufacturers.

Estimated Number of Respondents: 10.

Frequency of Response: quarterly.

Estimated Total Annual Hour Burden: 19,300 hours.

Estimated Total Annualized Capital, Operating/ Maintenance Cost Burden: $2,821,160.

Send comments on the Agency's need for this information, the accuracy of the provided burden estimates, and any suggested methods for minimizing respondent burden, including through the use of automated collection techniques to the addresses listed above. Please refer to EPA ICR No. 1725.03 and OMB Control No. 2060-0323 in any correspondence.

Dated: December 19, 2000.
Oscar Morales,
Director, Collection Strategies Division.

[FR Doc. 00-33353 Filed 12-28-00; 8:45 am]

BILLING CODE 6560-50-P